NATIONAL AERONAUTICS AND SPACE ADMINISTRATION

[Notice (18-094)]

NASA Advisory Council; Meeting

AGENCY: National Aeronautics and Space Administration.

ACTION: Notice of meeting.

SUMMARY: In accordance with the Federal Advisory Committee Act, as amended, the National Aeronautics and Space Administration (NASA) announces a meeting of the NASA Advisory Council (NAC).

DATES: Monday, December 10, 2018, from 1:30-6:00 p.m.; and Tuesday, December 11, 2018, from 9-12 p.m., Eastern Time.

ADDRESSES: NASA Headquarters, Program Review Center, Room 9H40, 300 E Street SW, Washington, DC 20546.

FOR FURTHER INFORMATION CONTACT: Ms. Marla King, NAC Administrative Officer, NASA Headquarters, Washington, DC 20546, (202) 358-1148 or marla.k.king@nasa.gov.

SUPPLEMENTARY INFORMATION: This meeting will be open to the public up to the capacity of the meeting room. This meeting will also be available telephonically and by WebEx. You must use a touch-tone phone to participate in this meeting. Any interested person may dial the toll number 1-517-308-9086 or toll free number 1-888-989-0726, passcode 3899540, followed by the # sign, on both days to participate in this meeting by telephone. NOTE: If dialing in, please “mute” your phone. To join via WebEx, the link is https://nasaenterprise.webex.com/. The meeting number on Monday, December 10 is 905 980 258 and the meeting password is NACDec2018! (case sensitive). The meeting number on Tuesday, December 11 is 901 189 192 and the meeting password is NACDec2018! (case sensitive).

The agenda for the meeting will include reports from the following:

—Aeronautics Committee

—Human Exploration and Operations Committee

—Regulatory and Policy Committee

—Science Committee

—STEM Engagement Committee

—Technology, Innovation and Engineering Committee

Attendees will be requested to sign a register and to comply with NASA Headquarters security requirements, including the presentation of a valid picture ID to NASA Security before access to NASA Headquarters. Foreign nationals attending this meeting will be required to provide a copy of their passport and visa in addition to providing the following information no less than 10 days prior to the meeting: Full name; gender; date/place of birth; citizenship; passport information (number, country, telephone); visa information (number, type, expiration date); employer/affiliation information (name of institution, address, country, telephone); title/position of attendee. To expedite admittance, U.S. citizens and Permanent Residents (green card holders) are requested to provide full name and citizenship status no less than 3 working days prior to the meeting. Information should be sent to Ms. Marla K. King via email at marla.k.king@nasa.gov. It is imperative that the meeting be held on these dates to the scheduling priorities of the key participants.

Patricia Rausch,
Advisory Committee Management Officer, National Aeronautics and Space Administration.

[FR Doc. 2018-25565 Filed 11-23-18; 8:45 am]

BILLING CODE 7510-13-P